DEPARTMENT OF HOUSING AND URBAN DEVELOPMENT

[Docket No. FR-5275-N-02]

Native American Housing Assistance and Self-Determination Reauthorization Act of 2008: Request for Nominations for Negotiated Rulemaking Committee Membership

AGENCY: Office of Assistant Secretary for Public and Indian Housing, HUD.

ACTION: Notice.

SUMMARY: On January 12, 2009, HUD published a Federal Register notice announcing the initiation of negotiated rulemaking for the purpose of developing regulatory changes to the programs authorized under the Native American Housing Assistance and Self-Determination Act of 1996 (NAHASDA). Changes to these programs were made by the Native American Housing Assistance and Self-Determination Reauthorization Act of 2008, which also directs that HUD undertake negotiated rulemaking to implement the statutory revisions. This notice explains how persons may be nominated for membership on the negotiated rulemaking committee.

DATES: Nominations for committee membership are due on or before: May 1, 2009.

ADDRESSES: Interested persons are invited to submit nominations for membership on the negotiated rulemaking committee. There are two methods for nominations to be included in the docket for this rule. Additionally, all submissions must refer to the above docket number and title.

1. Submission of Nominations by Mail. Nominations may be submitted by mail to the Regulations Division, Office of the General Counsel, Department of Housing and Urban Development, 451 Seventh Street, SW., Room 10276, Washington, DC 20410-0500.

2. Electronic Submission of Nominations. Interested persons may submit nominations electronically through the Federal eRulemaking Portal at http://www.regulations.gov. HUD strongly encourages the electronic submission of nominations. Electronic submission allows the maximum time to prepare and submit a nomination, ensures timely receipt by HUD, and enables HUD to make them immediately available to the public. Nominations submitted electronically through the http://www.regulations.gov Web site can be viewed by interested members of the public. Individuals should follow the instructions provided on that site to submit nominations electronically.

Note: To receive consideration, nominations must be submitted through one of the two methods specified above. Again, all submissions must refer to the docket number and title of the rule. No facsimile nominations. Facsimile (FAX) nominations are not acceptable.

Public Inspection of Nominations. All properly submitted nominations and communications submitted to HUD will be available for public inspection and copying between 8 a.m. and 5 p.m. weekdays at the above address. Due to security measures at the HUD Headquarters building, an advance appointment to review the submissions must be scheduled by calling the Regulations Division at (202) 708-3055 (this is not a toll-free number). Individuals with speech or hearing impairments may access this number via TTY by calling the Federal Information Relay Service at (800) 877-8339. Copies of all submissions are available for inspection and downloading at http://www.regulations.gov.

FOR FURTHER INFORMATION CONTACT: Rodger J. Boyd, Deputy Assistant Secretary for Native American Programs, Office of Public and Indian Housing, Department of Housing and Urban Development, 451 7th Street, SW., Room 4126,Washington, DC 20410-5000, telephone: 202-401-7914 (this is not a toll-free number). Persons with hearing or speech impediments may access this number through TTY by calling the toll-free Federal Information Relay Service at 800-877-8339 (this is a toll-free number).

SUPPLEMENTARY INFORMATION:

I. Background

The Native American Housing Assistance and Self-Determination Act of 1996 (25 U.S.C. 4101 et seq.) (NAHASDA) changed the way that housing assistance is provided to Native Americans. NAHASDA eliminated several separate assistance programs and replaced them with a single block grant program, known as the Indian Housing Block Grant (IHBG) Program. In addition, title VI of NAHASDA authorizes federal guarantees for financing of certain tribal activities (Title VI Loan Guarantee Program). The regulations governing the IHBG and Title VI Loan Guarantee Programs are located in part 1000 of HUD's regulations in title 24 of the Code of Federal Regulations. In accordance with section 106 of NAHASDA, HUD developed the regulations with active tribal participation and using the procedures of the Negotiated Rulemaking Act of 1996 (5 U.S.C. 561-570).

The Native American Housing Assistance and Self-Determination Reauthorization Act of 2008 (Pub. L. 110-411, approved October 14, 2008) (2008 Reauthorization Act) reauthorizes NAHASDA through 2013 and makes a number of amendments to the statutory requirements governing the IHBG and Title VI Loan Guarantee Programs. The 2008 Reauthorization Act amends section 106 of NAHASDA to provide that HUD shall “initiate a negotiated rulemaking in accordance with this section by not later than 90 days after enactment of the” 2008 Reauthorization Act.

On March 29, 2006 (71 FR 16004), HUD published a notice in the Federal Register announcing the proposed membership of a negotiated rulemaking committee to provide recommendations on regulatory changes effectuating certain statutory amendments to NAHASDA. However, the establishment of that negotiated rulemaking committee was never made final. Given the time that has passed and the more comprehensive changes made by the 2008 Reauthorization Act, HUD has determined it appropriate to form a new negotiated rulemaking committee for the purposes of implementing the 2008 Reauthorization Act. In addition, the new negotiated rulemaking committee may consider the other statutory amendments to NAHASDA that were to be addressed by the earlier committee. (Proposed membership on the earlier negotiated rulemaking committee announced in HUD's March 29, 2006, notice does not preclude the individual from membership on the new committee.)

On January 12, 2009 (74 FR 1227), HUD published a notice in the Federal Register announcing the initiation of the negotiated rulemaking required by the 2008 Reauthorization Act. The January 12, 2009, notice provides additional information on the IHBG programs and the negotiated rulemaking process.

II. This Notice

This notice is the next step in the process of establishing the negotiated rulemaking committee required by the 2008 Reauthorization Act. Specifically, the notice solicits nominations for membership on the negotiated rulemaking committee and explains how persons may be nominated for committee membership. The committee will consist of representatives of the various interests that are potentially affected by the rulemaking. Members may include tribally designated housing entities, elected officials of tribal governments, and HUD representatives. Members will serve at HUD's discretion.

The Negotiated Rulemaking Act of 1990 (5 U.S.C. 561-570) provides, at 5 U.S.C. 565(b), that the membership of a negotiated rulemaking committee should generally be limited to 25 members. It is not required that each potentially affected organization or entity necessarily have its own representative. However, HUD must be satisfied that the group as a whole reflects a geographically diverse cross-section of small, medium, and large Indian tribes.

III. Requests for Representation

If you are interested in serving as a member of the Committee or in nominating another person to serve as a member of the Committee, you may submit a nomination to HUD in accordance with the ADDRESSES section of this notice. Your nomination for membership on the Committee must include:

1. The name of your nominee and a description of the interests the nominee would represent;

2. Evidence that your nominee is authorized to represent a tribal government, which may include the tribally designed housing entity of a tribe with the interests the nominee would represent, so long as the tribe provides evidence that it authorizes such representation; and

3. A written commitment that the nominee will actively participate in good faith in the development of the rule.

HUD will determine whether a proposed member will be included in the makeup of the Committee. HUD will make that decision based on whether a proposed member would be significantly affected by the proposed rule, whether the interest of the proposed member could be represented adequately by other members, and whether space permits.

IV. Additional Notice

Section 564 of the Negotiated Rulemaking Act of 1990 requires that an agency, prior to the establishment of a negotiated rulemaking committee, publish a notice in the Federal Register announcing its intent to establish the committee, provide a list of the proposed committee membership, provide certain other information regarding the formation of the committee, and solicit nominations for selection to the committee. After reviewing any comments on this notice and any requests for representation, HUD will publish a notice that will announce the proposed membership of the committee, solicit additional nominations for membership, and provide the information required by section 564 in the Federal Register.

Dated: February 23, 2009.
Paula O. Blunt,
General Deputy Assistant Secretary for Public and Indian Housing.

[FR Doc. E9-4274 Filed 2-27-09; 8:45 am]

BILLING CODE 4210-67-P